DEPARTMENT OF TRANSPORTATION

Federal Aviation Administration

Notice of Intent To Request Renewal From the Office of Management and Budget (OMB) of Six Current Public Collections of Information

AGENCY: Federal Aviation Administration (FAA), DOT.

ACTION: Notice.

SUMMARY: In compliance with the Paperwork Reduction Act (44 U.S.C. 3501 et seq.), the FAA invites public comment on six currently approved public information collections which will be submitted to OMB for renewal.

DATES: Comments must be received on or before September 23, 2003.

ADDRESSES: Comments may be mailed or delivered to the FAA at the following address: Ms. Judy Street, Room 613, Federal Aviation Administration, Standards and Information Division, APF-100, 800 Independence Ave., SW., Washington, DC 20591.

FOR FURTHER INFORMATION CONTACT: Ms. Judy Street at the above address or on (202) 267-9895.

SUPPLEMENTARY INFORMATION: In accordance with the Paperwork Reduction Act of 1995, an agency may not conduct or sponsor, and a person is not required to respond to a collection of information unless it displays a currently valid OMB control number. Therefore, the FAA solicits comments on the following current collection of information in order to evaluate the necessity of the collection, the accuracy of the agency's estimate of the burden, the quality, the clarity of the information to be collected, and possible ways to minimize the burden of the collection in preparation for submission to renew the clearances of the following information collections.

1. 2120-0033: Representatives of the Administrator, FAR 183. Title 49, U.S.C., section 44702, authorizes appointment of properly qualified private persons to be representatives of the Administrator for examining, testing, and certifying airmen for the purpose of issuing them airmen certificates. The information collected is used to determine eligibility of the representatives. The current estimates annual reporting burden is 3,974 hours.

2. 2120-0563: Notice and Approval of Airport Noise and Access Restrictions. The Airport Noise and Capacity Act of 1990 mandates the formulation of a national noise policy. One part of the mandate is the development of a national program to review noise and access restrictions on the operation of Stage 2 and 3 aircraft. Respondents are airport operators proposing voluntary agreements and/or mandatory restrictions on Stage 2 and 3 aircraft operations, and aircraft operators that request reevaluation of a restriction. The current estimated annual reporting burden is 30,000 hours.

3. 2120-0611: Associated Administrator for Commercial Space Transportation (AST) Customer Service Survey. The FAA Office of the Associated Administrator for Commercial Space Transportation conducts a survey to obtain industry input on the customer service standards which have been developed and distributed to industry customers. This is a requirement of the White House NPR Customer Service Initiatives. AST collects and analyzes the data for results. The current estimated annual reports burden is 300 hours.

4. 2120-0618: Overflight billing and Collection Customer Information Form. This information is needed to obtain accurate billing information for FAA air traffic and related services for certain aircraft that transit U.S. controlled airspace but neither take off from, nor land in, the United States. The current estimated annual reporting burden is 50 hours.

5. 2120-0663: Service Difficulty Report (SDR). September 15, 2000, the Federal Aviation Administration (FAA) published a rule amending the reporting requirements for air carriers and certificates domestic and foreign repair station operators concerning failures, malfunctions, and defects of aircraft, aircraft engines, systems, and components. This action was prompted by an internal FAA review of the effectiveness of the reporting system and by air carriers industry's concern over the quality of the data being reported. The reports submitted by certificate holders and certificated repair stations provide the FAA with airworthiness statistical data necessary for planning, directing, controlling, and evaluating certain assigned safety-related programs. The current estimated annual reporting burden associated with this revision is 6,107 hours.

6. 2120-0665: Safe Disposition of Life-Limited Aircraft Parts. This action responds to the Wendell H. Ford Investment Reform Act for the 21st Century by requiring that all persons who remove any life-limited aircraft part be required to have a method to prevent the installation of that part after it has reached its life limit. This action reduces the risk of life-limited aircraft parts being used beyond their life limits. This collection also requires that manufacturers of life-limited parts provide marking instructions, when requested. The current estimated annual reporting burden is 52,000 hours.

Issued in Washington, DC on July 18, 2003.
Judith D. Street,
FAA Information Collection Clearance Officer, APF-100.

[FR Doc. 03-18921 Filed 7-24-03; 8:45 am]

BILLING CODE 4910-13-M